DEPARTMENT OF JUSTICE

Notice of Lodging of Consent Decree Under the Comprehensive Environmental Response, Compensation, and Liability Act

Notice is hereby given that on October 28, 2004, a proposed Consent Decree in United States of America and State of Louisiana v. CanadianOxy Offshore Production Co., Civil Action No. CV04-2220-S was lodged with the United States District Court for the Western District of Louisiana.

In this action the United States sought to recover from CanadianOxy Offshore Production Co. (“COPCo”) response costs incurred in response to releases and threatened releases of hazardous substances from the facility known as the Highway 71/72 Refinery Site (the “Site”) located in Bossier City, Bossier Parish, Louisiana. The United States also sought a declaratory judgment that COPCo was liable for any future response costs incurred by the United States at the Site. The Consent Decree provides that COPCO shall (1) perform all the work required by EPA's September 2000 Record of Decision; (2) pay $5,689,192.06 towards the response costs incurred by EPA in connection with the Site on or before September 30, 2003, plus interest from September 30, 2003, to the date the Consent Decree is entered; and (3) pay all response costs incurred by EPA in connection with the Site after September 30, 2003. The Consent Decree also settles the Louisiana Department of Environmental Quality's (LDEQ's) claims regarding the Site and establishes a $25,000 special account for the LDEQ to draw upon for its work at the Site. COPCo is required to replenish the LDEQ special account annually.

The Department of Justice will receive for a period of thirty (30) days from the date of this publication comments relating to the Consent Degree. Comments should be addressed to the Assistant Attorney General, Environment and Natural Resources Division, P.O. Box 7611, U.S. Department of Justice, Washington, DC 20044-7611, and should refer to United States of America and State of Louisiana v. CanadianOxy Offshore Production Co., D.J. Ref. 90-11-2-1102.

The Consent Decree may be examined at the Office of the United States Attorney, Western District of Louisiana, 300 Fannin Street, Suite 3201, Shreveport, Louisiana 71101-3068, and at the offices of the U.S. Environmental Protection Agency, Region 6, 1445 Ross Ave., Dallas, TX 75202-2733. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax No. (202) 514-0097, phone confirmation No. (202) 514-1547. In requesting a copy from the Consent Decree Library, please enclose a check in the amount of $48.00 (25 cents per page reproduction cost) payable to the U.S. Treasury.

Thomas A. Mariani, Jr.,
Assistant Chief, Environmental Enforcement Section, Environment and Natural Resources Division.

[FR Doc. 04-26118 Filed 11-24-04; 8:45 am]

BILLING CODE 4410-15-M